DEPARTMENT OF ENERGY

Federal Energy Regulatory Commission

[Project No.: P-906-006]

Virginia Electric and Power Company; Notice of Application Ready for Environmental Analysis and Soliciting Comments, Recommendations, Terms and Conditions, and Prescriptions

December 26, 2006.

Take notice that the following hydroelectric application has been filed with the Commission and is available for public inspection.

a. Type of Application: New Major License.

b. Project No.: P-906-006.

c. Date filed: June 12, 2006.

d. Applicant: Virginia Electric and Power Company, doing business as Dominion Virginia Power.

e. Name of Project: Cushaw Hydroelectric Project.

f. Location: On the James River in near Glasgow, Virginia, in Bedford and Amherst Counties, Virginia. The project occupies 4.1 acres of United States Forest Service lands.

g. Filed Pursuant to: Federal Power Act 16 U.S.C. 791(a)-825(r).

h. Applicant Contact: James Thornton, Dominion Virginia Power, 5000 Dominion Boulevard, 1 NE, Glen Allen, VA 23060 (804) 273-3257.

i. FERC Contact: Kristen Murphy, (202) 502-6236 or kristen.murphy@ferc.gov.

j. Deadline for filing comments, recommendations, terms and conditions, and prescriptions: February 24, 2007; reply comments are due: April 10, 2007.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments, recommendations, terms and conditions, and prescriptions may be filed electronically via the Internet in lieu of paper. The Commission strongly encourages electronic filings. See 18 CFR 385.2001(a)(1)(iii) and the instructions on the Commission's Web site (http://www.ferc.gov) under the “e-Filing” link.

k. This application has been accepted, and is ready for environmental analysis at this time.

l. Description of Project: The Cushaw Project consists of the following: (1) A 1,550-foot-long and 27-foot-high reinforced concrete dam extending diagonally across the James River; (2) a 138-acre reservoir with a surface elevation of 656 feet mean sea level; (3) an integral powerhouse with the dam containing five generating units with a total installed capacity of 7,500 kilowatts; (4) a 2.3-kVcable connecting the powerhouse to the Cushaw substation; and (5) appurtenant facilities. The project is operated in a run-of-river mode, and the average annual electrical generation is approximately 16,971,000 kilowatthours.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

Magalie R. Salas,
Secretary.

[FR Doc. E6-22525 Filed 1-3-07; 8:45 am]

BILLING CODE 6717-01-P